DEPARTMENT OF TRANSPORTATION

Maritime Administration

[Docket No. MARAD-2002-11871]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before May 28, 2002.

ADDRESSES: Comments should refer to the docket number that appears at the top of this document. Written comments may be submitted to the Docket Clerk, U.S. DOT Dockets, Room PL-401, 400 Seventh Street, SW., Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. ET, Monday through Friday, except Federal Holidays. An electronic version of this document is available on the World Wide Web at http://dms.dot.gov.

FOR FURTHER INFORMATION CONTACT: Kenneth Kline, Maritime Administration, 400 7th Street, SW., Washington, DC 20590. Telephone: 202-366-5744; fax: 202-366-7901, or e-mail: kenneth.kline@marad.dot.gov.

Copies of this collection can also be obtained from that office.

SUPPLEMENTARY INFORMATION: Title of Collection: Obligation Guarantees—46 CFR part 298, Title XI.

Type of Request: Extension of currently approved information collection.

OMB Control Number: 2133-0018.

Form Numbers: MA-163, MA-163A

Expiration Date of Approval: October 31, 2002.

Summary of Collection of Information: In accordance with the Merchant Marine Act, 1936, MARAD is authorized to execute a full faith and credit guarantee by the United States of debt obligations issued to finance or refinance the construction or reconstruction of vessels. In addition, the program allows for financing shipyard modernization and improvement projects.

Need and Use of the Information: The information collected is necessary for MARAD officials to evaluate an applicant's project and capabilities, make the required determinations, and administer any agreements executed upon approval of loan guarantees.

Description of Respondents: Individuals/businesses interested in obtaining loan guarantees for construction or reconstruction of vessels satisfying criteria under the Merchant Marine Act, as well as businesses interested in shipyard modernization and improvements.

Annual Responses: 21.

Annual Burden: 1470 hours.

By Order of the Maritime Administrator.
Dated: March 19, 2002.
Joel C. Richard,
Secretary, Maritime Administration.

[FR Doc. 02-7160 Filed 3-25-02; 8:45 am]

BILLING CODE 4910-81-P